DEPARTMENT OF STATE

[Public Notice: 12596]

Notice of Public Meeting in Preparation for International Maritime Organization Eleventh Session of the Sub-Committee on Ship Design and Construction (SDC) Meeting

The Department of State will conduct a public meeting at 11 a.m. on Wednesday, January 8, 2025, both in-person at Coast Guard Headquarters in Washington, DC, and via teleconference. The primary purpose of the meeting is to prepare for the 11th session of the International Maritime Organization's (IMO) Sub-committee on Ship Design and Construction (SDC) to be held at IMO Headquarters in London, United Kingdom from Monday, January 13 to Friday, January 17, 2025.

Members of the public may participate up to the capacity of the teleconference phone line, which can handle 500 participants or up to the seating capacity of the room if attending in person. The meeting location will be the United States Coast Guard Headquarters, and the teleconference line will be provided to those who RSVP. To RSVP, participants should contact the meeting coordinator, LCDR Bryan Andrews, by email at bryan.j.andrews@uscg.mil. LCDR Andrews will provide access information for in-person and virtual attendance.

The agenda items to be considered at SDC 11 include:

—Adoption of the agenda

—Decisions of other IMO bodies

—Development of Guidelines for emergency towing arrangements for ships other than tankers (2.20)

—Further development of the IP Code and associated guidance (2.4)

—Revision of the Interim explanatory notes for the assessment of passenger ship systems' capabilities after a fire or flooding casualty (MSC.1/Circ.1369) and related circulars (7.42)

—Amendments to the 2011 ESP Code (7.21)

—Amendments to the Guidelines for construction, installation, maintenance and inspection/survey of means of embarkation and disembarkation (MSC.1/Circ.1331) concerning the rigging of safety netting on accommodation ladders and gangways (7.35)

—Revision of SOLAS chapters II-1 (part C) and V, and related instruments regarding steering and propulsion requirements, to address both traditional and non-traditional propulsion and steering systems. (2.9)

—Amendment to regulation 25 of the 1988 Load Line Protocol regarding the requirement for setting of guard rails on the deck structure (7.25) Unified interpretation of provisions of IMO safety, security, environment, facilitation, liability and compensation-related conventions (7.1)

—Guidelines for use of Fibre-Reinforced Plastics (FRP) within ship structures (2.6)

—Review of the 2009 Code on Alerts and Indicators (7.47)

—Biennial status report and provisional agenda for SDC 12

—Election of Chair and Vice-Chair for 2026

—Experience-building phase for the reduction of underwater radiated noise from shipping (1.16)

—Any other business

—Report to the Maritime Safety Committee

Please note: The IMO may, on short notice, adjust the SDC 11 agenda to accommodate the constraints associated with the meeting format. Any changes to the agenda will be reported to those who RSVP.

Those who plan to participate should contact the meeting coordinator, LCDR Bryan Andrews, by email at bryan.j.andrews@uscg.mil, or in writing at 2703 Martin Luther King Jr. Ave. SE, Stop 7509, Washington, DC 20593-7509, by December 20, 2024. Please note that, due to security considerations, two valid, government issued photo identifications must be presented to gain entrance to the Douglas A. Munro Coast Guard Headquarters Building at St. Elizabeth's. This building is accessible by taxi, public transportation, and privately owned conveyance (upon request). Additionally, members of the public needing reasonable accommodation should advise the meeting coordinator not later than December 20, 2024. Requests made after that date will be considered but might not be possible to fulfill.

Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2024-27795 Filed 11-26-24; 8:45 am]

BILLING CODE 4710-09-P